DEPARTMENT OF TRANSPORTATION

Federal Motor Carrier Safety Administration

[Docket No. FMCSA-2006-26066]

Qualification of Drivers; Exemption Applications; Vision

AGENCY: Federal Motor Carrier Safety Administration (FMCSA), DOT.

ACTION: Notice of applications for exemptions; request for comments.

SUMMARY: FMCSA announces receipt of applications from 75 individuals for exemptions from the vision requirement in the Federal Motor Carrier Safety Regulations. If granted, the exemptions would enable these individuals to qualify as drivers of commercial motor vehicles (CMVs) in interstate commerce without meeting the Federal vision standard.

DATES: Comments must be received on or before November 29, 2006.

ADDRESSES: You may submit comments identified by Department of Transportation (DOT) Docket Management System (DMS) Docket Number FMCSA-2006-26066 using any of the following methods:

• Web Site: http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the Agency name and docket number for this Notice. Note that all comments received will be posted without change to http://dms.dot.gov including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19477; Apr. 11, 2000). This information is also available at http://dms.dot.gov.

FOR FURTHER INFORMATION CONTACT: Dr. Mary D. Gunnels, Chief, Physical Qualifications Division, (202) 366-4001, maggi.gunnels@dot.gov, FMCSA, Department of Transportation, 400 Seventh Street, SW., Room 8301, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 75 individuals listed in this Notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Lucas R. Aleman

Mr. Aleman, age 45, has had optic atrophy in his left eye due to an injury that occurred at age 20. The best corrected visual acuity in his right eye is 20/20 and in the left, count-finger vision. Following an examination in 2006, his ophthalmologist noted, “As far as driving a motor vehicle is concerned, Lucas should be well adapted to his visual status and from a visual standpoint should be able to operate a motor vehicle, including a commercial vehicle.” Mr. Aleman reported that he has driven straight trucks for 5 years, accumulating 125,000 miles, and tractor-trailer combinations for 22 years, accumulating 2.2 million miles. He holds a Class A Commercial Drivers License (CDL) from Kansas. His driving record for the last 3 years shows no crashes or convictions for moving violations in a CMV.

Michael L. Allen

Mr. Allen, 59, has complete loss of vision in his right eye due to a traumatic injury sustained in 1950. The best corrected visual acuity in his left eye is 20/20. Following an examination in 2006, his ophthalmologist noted, “It appears that the fact that he only has vision in one eye has not been an issue with respect to operating commercial motor vehicles. With that in mind, it is my professional opinion that he be considered for a waiver to continue to drive commercially, as requested.” Mr. Allen reported that he has driven tractor-trailer combinations for 12 years, accumulating 720,000 miles. He holds a Class A CDL from Nevada. His driving record for the last 3 years shows no crashes or convictions for moving violations in a CMV.

Jose C. Azuara

Mr. Azuara, 47, has had corneal opacity in his left eye since birth. The visual acuity in his right eye is 20/20 and in the left, no light perception. Following an examination in 2006, his optometrist noted, “I am of the opinion that the applicant has sufficient visual skills with his right eye to perform his required tasks as a commercial driver.” Mr. Azuara reported that he has driven tractor-trailer combinations for 16 years, accumulating 2 million miles. He holds a Class A CDL from Texas. His driving record for the last 3 years shows no crashes and no convictions for moving violations in a CMV.

Felipe Bayron

Mr. Bayron, 50, has had amblyopia in his right eye since childhood. The best corrected visual acuity in his right eye is 20/60 and in the left, 20/20. Following an examination in 2006, his optometrist noted, “In my medical opinion, Mr. Bayron has sufficient vision to perform the driving tasks required to operate a commercial vehicle.” Mr. Bayron reported that he has driven straight trucks for 5 years, accumulating 156,000 miles, and tractor-trailer combinations for 3 years, accumulating 16,000 miles. He holds a Class A CDL from Wisconsin. His driving record for the last 3 years shows 2 crashes both of which he was cited for, and no convictions for moving violations in a CMV.

Dennis M. Boggs

Mr. Boggs, 39, has had amblyopia in his right eye since birth. The best corrected visual acuity is 20/16 in the right eye and in the left, 20/190. Following an examination in 2006, his optometrist noted, “It is my medical opinion that Mr. Boggs has sufficient vision to safely operate a commercial vehicle.” Mr. Boggs reported that he has driven straight trucks for 5 years, accumulating 156,000 miles, and tractor-trailer combinations for 3 years, accumulating 215,916 miles. He holds a Class A CDL from Wisconsin. His driving record for the last 3 years shows no crashes or convictions for moving violations in a CMV.

Daniel D. Bradshaw

Mr. Bradshaw, 48, has had amblyopia in his left eye since birth. The best corrected visual acuity in his right eye is 20/25 and in the left, 20/80. Following an examination in 2006, his ophthalmologist noted, “I certify that in my medical opinion, Mr. Bradshaw has sufficient vision to perform the driving tasks required to operate a commercial vehicle.” Mr. Bradshaw reported that he has driven straight trucks for 30 years, accumulating 675,000 miles. He holds a Class B CDL from Oregon. His driving record for the last 3 years shows no crashes and no convictions for moving violations in a CMV.

Roy L. Brown

Mr. Brown, 50, has optic nerve damage in his left eye due to an injury sustained in 1988. The best corrected visual acuity in his right eye is 20/20 and in the left, hand-motion vision. Following an examination in 2006, his optometrist noted, “Even though he is basically monocular, in my medical opinion, Mr. Brown has sufficient vision to perform the driving tasks required to operate a commercial vehicle.” Mr. Brown reported that he has driven tractor-trailer combinations for 30 years, accumulating 3.5 million miles. He holds a Class A CDL from Tennessee. His driving record for the last 3 years shows no crashes or convictions for moving violations in a CMV.

Richard A. Brown, Jr.

Mr. Brown, 46, has had amblyopia in his right eye since childhood. The best corrected visual acuity in his right eye is count-finger vision and in the left, 20/20. Following an examination in 2006, his ophthalmologist noted, “His right eye has amblyopia since childhood to the count-finger level but would not preclude him from operating a commercial vehicle.” Mr. Brown reported that he has driven straight trucks for 6 years, accumulating 120,000 miles, and tractor-trailer combinations for 6 years, accumulating 180,000 miles. He holds a Class A CDL from Connecticut. His driving record for the last 3 years shows no crashes or convictions for moving violations in a CMV.

David S. Brumfield

Mr. Brumfield, 30, has a prosthetic left eye due to ocular complications sustained as an infant. The best corrected visual acuity in his right eye is 20/20. Following an examination in 2006, his optometrist noted, “It is my opinion that this individual has sufficient vision to perform the driving tasks required to operate a commercial vehicle.” Mr. Brumfield reported that he has driven straight trucks for 11 years, accumulating 121,000 miles, and tractor-trailer combinations for 7 years, accumulating 504,000 miles. He holds a Class A CDL from Kentucky. His driving record for the last 3 years shows no crashes or convictions for moving violations in a CMV.

Fabian L. Burnett

Mr. Burnett, 49, has had amblyopia in his left eye since childhood. The visual acuity in his right eye is 20/15 and in the left, 20/60. Following an examination in 2006, his ophthalmologist noted, “In my opinion, Fabian Burnett has sufficient vision to perform the driving tasks required to operate a commercial vehicle.” Mr. Burnett reported that he has driven tractor-trailer combinations for 16 years, accumulating 1.2 million miles. He holds a Class A CDL from Illinois. His driving record for the last 3 years shows no crashes or convictions for moving violations in a CMV.

David L. Cattoor

Mr. Cattoor, 64, has an opaque cornea due to a failed corneal graft transplant in his right eye in 1996. The visual acuity in his left eye is 20/20. Following an examination in 2006, his optometrist noted, “He has driven without incident for many years and I certify that in my medical opinion, Mr. Cattoor has sufficient vision to perform the driving tasks required to operate a commercial vehicle.” Mr. Cattoor reported that he has driven straight trucks for 25 years, accumulating 75,000 miles, and tractor-trailer combinations for 21 years, accumulating 210,000 miles. He holds a Class A CDL from Nevada. His driving record for the last 3 years shows no crashes or convictions for moving violations in a CMV.

Roger E. Clark

Mr. Clark, 62, has had macular hemorrhages in his left eye due to an infection sustained in 1995. The best corrected visual acuity in his right eye is 20/20 and in the left, 20/80. Following an examination in 2006, his ophthalmologist noted, “I certify that his right eye sees 20/20 and that he sees well enough to operate a commercial motor vehicle.” Mr. Clark reported that he has driven straight trucks for 7 years, accumulating 336,000 miles, and tractor-trailer combinations for 8 years, accumulating 240,000 miles. He holds a Class A CDL from North Carolina. His driving record for the last 3 years shows no crashes or convictions for moving violations in a CMV.

Steven J. Clark

Mr. Clark, 37, has had esotropia in his right eye since birth. The visual acuity in his right eye is 20/70 and in the left, 20/20. Following an examination in 2006, his optometrist noted, “Mr. Clark has extremely healthy eyes and there is sufficient vision to perform all the visual tasks required to operate a commercial vehicle.” Mr. Clark reported that he has driven straight trucks for 14 years, accumulating 868,000 miles, and tractor-trailer combinations for 2 years, accumulating 250,000 miles. He holds a Class A CDL from New Jersey. His driving record for the last 3 years shows no crashes or convictions for moving violations in a CMV.

Gary C. Cone

Mr. Cone, 62, has enucleation of his right eye due to trauma resulting in a ruptured globe in 1973. The best corrected visual acuity in his left eye is 20/20. Following an examination in 2006, his ophthalmologist noted, “Mr. Cone has sufficient vision to operate a commercial vehicle.” Mr. Cone reported that he has driven straight trucks for 25 years, accumulating 1.5 million miles, and tractor-trailer combinations for 25 years, accumulating 1.5 million miles. He holds a Class A CDL from Nevada. His driving record for the last 3 years shows no crashes and no convictions for moving violations in a CMV.

Timothy E. Coultas

Mr. Coultas, 39, has had amblyopia in his right eye since birth. The visual acuity in his right eye is 20/70 and in the left, 20/25. Following an examination in 2006, his optometrist noted, “In my opinion, Mr. Timothy Coultas has sufficient vision to perform the driving tasks required to operate a commercial vehicle.” Mr. Coultas reported that he has driven straight trucks for 10 years, accumulating 250,000 miles, and tractor-trailer combinations for 9 years, accumulating 1 million miles. He holds a Class A CDL from Illinois. His driving record for the last 3 years shows no crashes or convictions for moving violations in a CMV.

Cesar A. Cruz

Mr. Cruz, 42, has had amblyopia in his left eye since childhood. The best corrected visual acuity in his right eye is 20/25 and in the left, no light perception. Following an examination in 2006, his optometrist noted, “In my professional opinion, Mr. Cesar A. Cruz has sufficient vision to operate a commercial vehicle.” Mr. Cruz reported that he has driven straight trucks for 17 years, accumulating 174,488 miles. He holds a Class C operator's license from Illinois. His driving record for the last 3 years shows no crashes or convictions for moving violations in a CMV.

Arthur Dolengewicz

Mr. Dolengewicz, 52, has had amblyopia in his right eye since childhood. The best corrected visual acuity in his right eye is 20/80 and in the left, 20/20. Following an examination in 2006, his ophthalmologist noted, “In my medical opinion, the patient has sufficient central as well as peripheral vision required to operate a commercial vehicle.” Mr. Dolengewicz reported that he has driven straight trucks for 28 years, accumulating 140,000 miles. He holds a Class A CDL from New York. His driving record for the last 3 years shows no crashes or convictions for moving violations in a CMV.

Myron R. Durham

Mr. Durham, 63, has had an optic nerve anomaly in his right eye since birth. The best corrected visual acuity in his right eye is hand-motion vision and in the left, 20/20. Following an examination in 2006, his optometrist noted, “In my opinion, he has vision that is stable and sufficient to operate a commercial vehicle.” Mr. Durham reported that he has driven straight trucks for 47 years, accumulating 1.4 million miles. He holds a Class C operator's license from Maryland. His driving record for the last 3 years shows no crashes or convictions for moving violations in a CMV.

Wayne A. Elkins II

Mr. Elkins, 46, has had ambylopia in his left eye since birth. The best corrected visual acuity in his right eye is 20/25 and in the left, 20/50. Following an examination in 2006, his ophthalmologist noted, “In my opinion, from an ocular standpoint, Mr. Elkins does have vision sufficient to perform driving a commercial vehicle.” Mr. Elkins reported that he has driven straight trucks for 20 years, accumulating 500,000 miles, tractor-trailer combinations for 10 years, accumulating 12,000 miles, and buses for 20 years, accumulating 10,000 miles. He holds a Class A CDL from Ohio. His driving record for the last 3 years shows no crashes or convictions for moving violations in a CMV.

Barry Ferdinando

Mr. Ferdinando, 47, has had amblyopia in his right eye since birth. The best corrected visual acuity in his right eye is 20/100 and in the left, 20/20. Following an examination in 2006, his optometrist noted, “In my professional opinion, I feel that Mr. Ferdinando has sufficient vision to perform the driving tasks required to operate a commercial vehicle.” Mr. Ferdinando reported that he has driven straight trucks for 29 years, accumulating 145,000 miles, and tractor-trailer combinations for 26 years, accumulating 1 million miles. He holds a Class A CDL from Maine. His driving record for the last 3 years shows no crashes or convictions for moving violations in a CMV.

Leon C. Flynn

Mr. Flynn, 51, has exotropia in his right eye due to an injury sustained as a child. The best corrected visual acuity in his right eye is 20/200 and in the left, 20/20. Following an examination in 2006, his optometrist noted, “Mr. Flynn is capable to perform the driving tasks required to operate a commercial vehicle.” Mr. Flynn reported that he has driven straight trucks for 3 years, accumulating 240,000 miles, and tractor-trailer combinations for 18 years, accumulating 1.8 million miles. He holds a Class C operator's license from Pennsylvania. His driving record for the last 3 years shows no crashes or convictions for moving violations in a CMV.

David G. Guldan

Mr. Guldan, 41, has a prosthetic left eye due to an injury sustained in 1977. The visual acuity in his right eye is 20/20. Following an examination in 2006, his optometrist noted, “In my professional opinion, Mr. Guldan possesses sufficient vision to perform the driving tasks to operate a commercial vehicle.” Mr. Guldan reported that he has driven straight trucks for 7 years, accumulating 182,000 miles, tractor-trailer combinations for 2 years, accumulating 52,000 miles, and buses for 2 years, accumulating 2,000 miles. He holds a Class A CDL from New York. His driving record for the last 3 years shows no crashes or convictions for moving violations in a CMV.

Richard G. Gruber

Mr. Gruber, 50, has a prosthetic left eye due to an injury sustained in 1964. The best corrected visual acuity in his right eye is 20/20. Following an examination in 2006, his ophthalmologist noted, “I believe that Mr. Gruber's eye exam is excellent in the right eye and that he would be able to perform the visual tasks required to drive with a commercial license.” Mr. Gruber reported that he has driven straight trucks for 34 years, accumulating 170,000 miles, and tractor-trailer combinations for 34 years, accumulating 660,000 miles. He holds a Class A CDL from South Carolina. His driving record for the last 3 years shows no crashes or convictions for moving violations in a CMV.

Larry W. Hancock

Mr. Hancock, 60, has loss of vision in his right eye due to an injury sustained in 1951. The best corrected visual acuity in his right eye is hand-motion vision and in the left, 20/20. Following an examination in 2006, his ophthalmologist noted, “In my medical opinion, his visual field in the left eye is completely full and he should be capable of completing the tasks needed to drive a commercial vehicle.” Mr. Hancock reported that he has driven straight trucks for 41 years, accumulating 1.6 million miles. He holds a Class D operator's license from Kentucky. His driving record for the last 3 years shows no crashes or convictions for moving violations in a CMV.

Guadalupe J. Hernandez

Mr. Hernandez, 29, has had a corneal scar in his left eye since birth. The best corrected visual acuity in his right eye is 20/15 and in the left, 20/200. Following an examination in 2006, his optometrist noted, “Mr. Hernandez has sufficient vision to continue to successfully perform his job operating a commercial vehicle.” Mr. Hernandez reported that he has driven straight trucks for 9 years, accumulating 46,800 miles. He holds a chauffeur's license from Indiana. His driving record for the last 3 years shows no crashes or convictions for moving violations in a CMV.

James L. Houser

Mr. Houser, 40, has a prosthetic right eye due to an injury sustained at age 17. The visual acuity in his left eye is 20/15. Following an examination in 2006, his optometrist noted, “In my opinion, James L. Houser has sufficient vision to perform the driving tasks required to operate a commercial vehicle.” Mr. Houser reported that he has driven straight trucks for 23 years, accumulating 17,250 miles. He holds a Class O operator's license from Nebraska, which allows him to operate any motor vehicle except a motorcycle and a vehicle that weighs more than 26,000 pounds, carries 16 or more passengers or transports placarded amounts of hazardous materials. His driving record for the last 3 years shows no crashes or convictions for moving violations in a CMV.

Richard G. Isenhart

Mr. Isenhart, 50, has a retinal detachment in his left eye due to an injury sustained in 1982. The visual acuity in his right eye is 20/20. Following an examination in 2006, his optometrist noted, “In my opinion, Richard Isenhart does have sufficient vision to operate a commercial vehicle.” Mr. Isenhart reported that he has driven straight trucks for 29 years, accumulating 2 million miles. He holds a Class B CDL from West Virginia. His driving record for the last 3 years shows no crashes and one conviction for a moving violation in a CMV, driving across the median.

Ricky G. Jacks

Mr. Jacks, 48, has aphakia in his right eye due to an injury sustained in 1991. The best corrected visual acuity in his right eye is 20/20 and in the left, 20/400. Following an examination in 2006, his ophthalmologist noted, “It is my medical opinion to state that Mr. Jacks has efficient vision to operate a commercial vehicle.” Mr. Jacks reported that he has driven straight trucks for 15 years, accumulating 300,000 miles, and tractor-trailer combinations for 1 year, accumulating 25,000 miles. He holds a Class B CDL from Alabama. His driving record for the last 3 years shows no crashes or convictions for moving violations in a CMV.

Damir Kocijan

Mr. Kocijan, 39, has loss of vision in his left eye due to esotropia which he has had since birth. The best corrected visual acuity in his right eye is 20/20 and in the left, 20/70. Following an examination in 2006, his optometrist noted, “Mr. Kocijan has the minimal vision to fulfill his requirements to operate a commercial vehicle.” Mr. Kocijan reported that he has driven straight trucks for 16 years, accumulating 960,000 miles. He holds a Class B CDL from Florida. His driving record for the last 3 years shows no crashes or convictions for moving violations in a CMV.

Timothy P. Keogh

Mr. Keogh, 51, has had amblyopia in his left eye since childhood. The visual acuity in his right eye is 20/20 and in the left eye, 20/200. Following an examination in 2006, his optometrist noted, “Mr. Keogh has sufficient vision to perform the driving tasks required to operate a commercial vehicle. We recommend use of spectacle correction during driving, with no other restrictions.” Mr. Keogh reported that he has driven straight trucks for 22 years, accumulating 770,000 miles. He holds a Class A CDL from Nevada. His driving record for the last 3 years shows no crashes or convictions for moving violations in a CMV.

Joe E. Jones

Mr. Jones, 56, has a prosthetic right eye due to a traumatic injury sustained in 1970. The best corrected visual acuity in his left eye is 20/20. Following an examination in 2006, his optometrist noted, “It is my medical opinion that this applicant has sufficient vision to perform driving tasks required to operate a commercial vehicle and that his vision is stable.” Mr. Jones reported that he has driven straight trucks for 10 years, accumulating 120,000 miles. He holds a chauffeur's license from Indiana. His driving record for the last 3 years shows no crashes or convictions for moving violations in a CMV.

William S. LaMar, Sr.

Mr. LaMar, 55, has glaucoma in his left eye due to an eye injury sustained as a child. The best corrected visual acuity in his right eye is 20/20 and in the left, 20/60. Following an examination in 2006, his ophthalmologist noted, “Based on the fact that this patient has been driving for many, many years with this visual condition that has been present since approximately age eight, I feel this is a stable situation, and should not produce any difficulty with him operating a commercial vehicle. I feel he has sufficient vision to perform his driving tasks.” Mr. LaMar reported that he has driven straight trucks for 20 years, accumulating 600,000 miles, tractor-trailer combinations for 8 years, accumulating 800 miles, and buses for 3 years, accumulating 3,000 miles. He holds a Class A CDL from Iowa. His driving record for the last 3 years shows no crashes or convictions for moving violations in a CMV.

Robert T. Lantry

Mr. Lantry, 34, has had amblyopia in his right eye since birth. The visual acuity in his right eye is 20/200 and in the left, 20/20. Following an examination in 2006, his ophthalmologist noted, “It is my professional opinion that Mr. Lantry's visual function is sufficient vision for operation of a commercial vehicle.” Mr. Lantry reported that he has driven straight trucks for 14 years, accumulating 24,500 miles, and tractor-trailer combinations for 2½ years, accumulating 9,375 miles. He holds a Class A CDL from Massachusetts. His driving record for the last 3 years shows no crashes and no convictions for moving violations in a CMV.

John W. Laskey

Mr. Laskey, 53, has had amblyopia in his left eye since childhood. The best corrected visual acuity in his right eye is 20/15 and in the left, 20/200. Following an examination in 2006, his optometrist noted, “In my opinion, Mr. Laskey's visual function does not negatively impact his ability to safely operate a commercial vehicle.” Mr. Laskey reported that he has driven straight trucks for 31 years, accumulating 496,000 miles. He holds a Class B CDL from New Hampshire. His driving record for the last 3 years shows no crashes and one conviction for a moving violation in a CMV, failure to obey a traffic signal.

Johnny L. Lindsey

Mr. Lindsey, 56, has complete loss of vision in his right eye due to a hemorrhage and subsequent cryotherapy that occurred in 1991. The visual acuity in his left eye is 20/20. Following an examination in 2006, his ophthalmologist noted, “In my opinion, I certify that John Lynn Lindsey has sufficient vision to perform the driving tasks required to operate a commercial vehicle.” Mr. Lindsey reported that he has driven tractor-trailer combinations for 34 years, accumulating 1.7 million miles. He holds a Class A CDL from Oklahoma. His driving record for the last 3 years shows no crashes and one conviction for a moving violation in a CMV.

Calvin E. Lloyd

Mr. Lloyd, 43, has had amblyopia in his left eye since childhood. The best corrected visual acuity in his right eye is 20/20 and in the left, 20/200. Following an examination in 2006, his optometrist noted, “In my medical opinion, he should have sufficient vision to perform his commercial vehicle driving task as long as he is wearing glasses.” Mr. Lloyd reported that he has driven tractor-trailer combinations for 13 years, accumulating 1 million miles. He holds a Class A CDL from Tennessee. His driving record for the last 3 years shows no crashes and two convictions for moving violations in a CMV. He exceeded the speed limit by 11 miles for both convictions.

Kenneth Liuzza

Mr. Liuzza, 41, has a macular hole in his left eye due to a traumatic injury. The visual acuity in his right eye is 20/20 and in the left, 20/200. Following an examination in 2006, his ophthalmologist noted, “In my opinion, Mr. Liuzza has sufficient vision to perform the driving tasks required to operate a commercial vehicle.” Mr. Liuzza reported that he has driven straight trucks for 20 years, accumulating 400,000 miles, tractor-trailer combinations for 20 years, accumulating 560,000 miles, and buses for 10 years, accumulating 18,280 miles. He holds a Class A CDL from Louisiana. His driving record for the last 3 years shows no crashes or convictions for moving violations in a CMV.

Samson B. Margison

Mr. Margison, 54, has had amblyopia in his left eye since birth. The best corrected visual acuity in his right eye is 20/20 and in the left, 20/400. Following an examination in 2006, his optometrist noted, “In my opinion, I see no reason why Mr. Margison should not be able to drive commercially based on his visual status alone.” Mr. Margison reported that he has driven straight trucks for 10 years, accumulating 10,000 miles, and tractor-trailer combinations for 25 years, accumulating 2.5 million miles. He holds a Class A CDL from Ohio. His driving record for the last 3 years shows no crashes or convictions for moving violations in a CMV.

Terrence L. McKinney

Mr. McKinney, 35, has complete loss of vision in the right eye due to a traumatic injury sustained in 1993. The visual acuity in his left eye is 20/15. Following an examination in 2006, his optometrist noted, “I certify that in my medical opinion, Mr. McKinney has sufficient vision to perform the driving tasks required to operate a commercial vehicle.” Mr. McKinney reported that he has driven straight trucks for 6 years, accumulating 234,000 miles, and tractor-trailer combinations for 2 years, accumulating 160,000 miles. He holds a Class C CDL from Texas. His driving record for the last 3 years shows no crashes or convictions for moving violations in a CMV.

Michael W. McClain

Mr. McClain, 45, has had amblyopia in his left eye since childhood. The visual acuity in his right eye is 20/20 and in the left, 20/200. Following an examination in 2006, his optometrist noted, “I certify that the above patient has sufficient vision to perform the driving tasks to operate a commercial vehicle.” Mr. McClain reported that he has driven straight trucks for 30 years, accumulating 30,000 miles, and tractor-trailer combinations for 22 years, accumulating 1.9 million miles. He holds a Class A CDL from Colorado. His driving record for the last 3 years shows no crashes or convictions for moving violations in a CMV.

Ellis T. McKneely

Mr. McKneely, 41, has complete loss of vision in his left eye due to an injury sustained in 1983. The best corrected visual acuity in his right eye is 20/20. Following an examination in 2006, his ophthalmologist noted, “In my medical opinion, Mr. McKneely has sufficient vision to operate a commercial vehicle and perform the job and tasks required.” Mr. McKneely reported that he has driven straight trucks for 3 years, accumulating 90,750 miles, and driving tractor-trailer combinations for 12 years, accumulating 390,000 miles. He holds a Class D Chauffeur's license from Louisiana. His driving record for the last 3 years shows no crashes or convictions for moving violations in a CMV.

Dennis N. McQuiston

Mr. McQuiston, 58, has had amblyopia in his right eye since childhood. The best corrected visual acuity in his right eye is 20/100 and in the left, 20/20. Following an examination in 2005, his optometrist noted, “It is my medical opinion that he does have sufficient vision to perform driving tasks required to operate a commercial vehicle.” Mr. McQuiston reported that he has driven straight trucks for 10 years, accumulating 500,000 miles, and tractor-trailer combinations for 35 years, accumulating 2.6 million miles. He holds a Class A CDL from Washington. His driving record for the last 3 years shows no crashes and one conviction for a moving violation in a CMV, failure to obey a traffic sign.

Garth R. Mero

Mr. Mero, 57, has had amblyopia in his left eye since birth. The visual acuity in his right eye is 20/15 and in the left, 20/400. Following an examination in 2006, his ophthalmologist noted, “It is my opinion that Mr. Mero's vision is sufficient to perform the driving tasks required to operate a commercial vehicle.” Mr. Mero reported that he has driven straight trucks for 5 years, accumulating 375,000 miles, and tractor-trailer combinations for 22 years, accumulating 2.7 million miles. He holds a Class A CDL from Vermont. His driving record for the last 3 years shows no crashes or convictions for moving violations in a CMV.

Donald G. Meyer

Mr. Meyer, 76, has had amblyopia in his left eye since childhood. The best corrected visual acuity in his right eye is 20/20 and in the left, 20/400. Following an examination in 2006, his ophthalmologist noted, “In my medical opinion, Mr. Donald G. Meyer has sufficient vision to perform the task required to operate a commercial vehicle.” Mr. Meyer reported that he has driven straight trucks for 45 years, accumulating 225,000 miles, and tractor-trailer combinations for 45 years, accumulating 2.2 million miles. He holds a Class A CDL from Indiana. His driving record for the last 3 years shows no crashes or convictions for moving violations in a CMV.

Ross W. Mockler

Mr. Mockler, 31, has had amblyopia since childhood. The visual acuity in his right eye is 20/20 and in the left, 20/200. Following an examination in 2006, his optometrist noted, “I certify that in my medical opinion, Mr. Mockler has sufficient vision to perform the driving tasks required to operate a commercial vehicle.” Mr. Mockler reported that he has driven straight trucks for 15 years, accumulating 183,750 miles, and tractor-trailer combinations for 10 years, accumulating 175,000 miles. He holds a Class A CDL from South Dakota. His driving record for the last 3 years shows no crashes or convictions for moving violations in a CMV.

Ronald C. Morris

Mr. Morris, 42, has had amblyopia in his right eye since childhood. The best corrected visual acuity in his right eye is 20/200 and in the left, 20/20. Following an examination in 2006, his optometrist noted, “Mr. Morris has sufficient vision to perform the driving tasks required to operate a commercial vehicle.” Mr. Morris reported that he has driven straight trucks for 3 years, accumulating 60,000 miles, and tractor-trailer combinations for 20 years, accumulating 800,000 miles. He holds a Class A CDL from Nevada. His driving record for the last 3 years shows no crashes or convictions for moving violations in a CMV.

Harry M. Oxendine

Mr. Oxendine, 48, has had a retinal detachment in his left eye since 1998. The best corrected visual acuity in his right eye is 20/25 and in the left, 20/200. Following an examination in 2005, his optometrist noted, “I feel that he has adequate vision to operate a commercial vehicle in gainful employment in order to provide for his family.” Mr. Oxendine reported that he has driven tractor-trailer combinations for 18 years, accumulating 1.5 million miles. He holds a Class A CDL from North Carolina. His driving record for the last 3 years shows no crashes or convictions for moving violations in a CMV.

Kenneth E. Parrott

Mr. Parrott, 62, has had amblyopia in his left eye since childhood. The best corrected visual acuity in his right eye is 20/25 and in the left, 20/200. Following an examination in 2006, his ophthalmologist noted, “In my medical opinion, Mr. Kenneth Parrott does have sufficient vision to perform the driving tasks required to operate a commercial vehicle.” Mr. Parrott reported that he has driven straight trucks for 45 years, accumulating 270,000 miles. He holds a Class B CDL from Missouri. His driving record for the last 3 years shows no crashes or convictions for moving violations in a CMV.

Charles R. Patten

Mr. Patten, 60, has had amblyopia in his right eye since birth. The best corrected visual acuity in his right eye is 20/200 and in the left, 20/20. Following an examination in 2006, his optometrist noted, “Mr. Patten has no medical condition which would affect his ability to operate a commercial vehicle.” Mr. Patten reported that he has driven straight trucks for 6 years, accumulating 300,000 miles, and tractor-trailer combinations for 11 years, accumulating 990,000 miles. He holds a Class A CDL from Florida. His driving record for the last 3 years shows no crashes or convictions for moving violations in a CMV.

Lionel Payne, Jr.

Mr. Payne, 45, has a macular scar in his left eye due to an injury sustained in 1998. The visual acuity in his right eye is 20/20 and in the left, hand motion vision. Following an examination in 2006, his optometrist noted, “I believe that Mr. Payne's vision is sufficient to operate a commercial vehicle.” Mr. Payne reported that he has driven tractor-trailer combinations for 20 years, accumulating 1.5 million miles. He holds a Class A CDL from Texas. His driving record for the last 3 years shows no crashes or convictions for moving violations in a CMV.

Randel G. Pierce

Mr. Pierce, 42, has a prosthetic right eye due to an injury sustained in 2003. The visual acuity in his left eye is 20/20. Following an examination in 2006, his optometrist noted, “In my medical opinion, Mr. Randel Pierce has sufficient vision to perform the driving tasks required to operate a commercial vehicle.” Mr. Pierce reported that he has driven straight trucks for 6 years, accumulating 120,000 miles, and tractor-trailer combinations for 8 years, accumulating 240,000 miles. He holds a Class A CDL from Wisconsin. His driving record for the last 3 years shows no crashes and one conviction for a moving violation in a CMV. He exceeded the speed limit by 12 mph.

Darrol W. Rippee

Mr. Rippee, 68, has optic neuropathy in his right eye due to an injury he sustained in 1989. The best corrected visual acuity in his right eye is light perception and in the left, 20/20. Following an examination in 2006, his optometrist noted, “In my medical opinion, Mr. Rippee has sufficient vision to perform the driving tasks required to operate a commercial vehicle.” Mr. Rippee reported that he has driven straight trucks for 24 years, accumulating 2 million miles. He holds a Class A CDL from Nevada. His driving record for the last 3 years shows no crashes and one conviction for a moving violation in a CMV.

Edgardo Rivera

Mr. Rivera, 48, has had amblyopia in his right eye since birth. The best corrected visual acuity in his right eye is 20/400 and in the left, 20/20. Following an examination in 2006, his ophthalmologist noted, “I understand that Mr. Rivera has an unblemished bus driving record for more than 25 years and my visual and personal assessment of this patient permits me to certify that he has more than sufficient visual capabilities to continue to safely operate a commercial vehicle.” Mr. Rivera reported that he has driven buses for 26 years, accumulating 806,000 miles. He holds a Class B CDL from New York. His driving record for the last 3 years shows no crashes or convictions for moving violations in a CMV.

Myriam Rodriguez

Ms. Rodriguez, 52, has had amblyopia in her left eye since birth. The visual acuity in her right eye is 20/20 and in the left, 20/120. Following an examination in 2006, her optometrist noted, “Our exam findings were quite stable and consistent with results of previous exams dating back to January 2000. Based on this information, and the fact that she has been driving a commercial vehicle for the past three years without incident, I believe Ms. Rodriguez is visually qualified to continue.” Ms. Rodriguez reported that she has driven tractor-trailer combinations for 3 years, accumulating 60,000 miles. She holds a Class A CDL from California. Her driving record for the last 3 years shows no crashes or convictions for moving violations in a CMV.

Raymond E. Royer

Mr. Royer, 44, has had amblyopia in his left eye since childhood. The best corrected visual acuity in his right eye is 20/20 and in the left, 20/100. Following an examination in 2006, his ophthalmologist noted, “In our medical opinion, there is no reason that Ray Royer should not be able to perform the driving tasks that are required to operate a commercial vehicle.” Mr. Royer reported that he has driven straight trucks for 14 years, accumulating 140,000 miles, and tractor-trailer combinations for 8 years, accumulating 75,000 miles. He holds a Class A CDL from South Dakota. His driving record for the last 3 years shows no crashes or convictions for moving violations in a CMV.

James E. Savage

Mr. Savage, 44, has had amblyopia in his left eye since childhood. The best corrected visual acuity in his right eye is 20/20 and in the left, 20/50. Following an examination in 2006, his optometrist noted, “Mr. Savage possesses the visual capabilities necessary to operate a commercial vehicle.” Mr. Savage reported that he has driven tractor-trailer combinations for 9 years, accumulating 243,000 miles. He holds a Class A CDL from Nevada. His driving record for the last 3 years shows no crashes or convictions for moving violations in a CMV.

Steven M. Scholfield

Mr. Scholfield, 26, has had choroidal hemangioma his left eye due to Sturge-Webber syndrome since 1998. The visual acuity in his right eye is 20/20 and in the left, 20/160. Following an examination in 2005, his ophthalmologist noted, “It is my opinion as a board certified ophthalmologist, that the patient is safe to operate a commercial motor vehicle.” Mr. Scholfield reported that he has driven straight trucks for 3 years, accumulating 19,500 miles. He holds a Class A CDL from Kentucky. His driving record for the last 3 years shows no crashes and or convictions for moving violations in a CMV.

Randal C. Schmude

Mr. Schmude, 45, has had amblyopia in his left eye since birth. The best corrected visual acuity in his right eye is 20/20 and in the left, 20/200. Following an examination in 2005, his optometrist noted, “Mr. Schmude's vision is sufficient for all driving tasks required of him as a commercial driver.” Mr. Schmude reported that he has driven tractor-trailer combinations for 23 years, accumulating 2.8 million miles. He holds a Class A CDL from Wisconsin. His driving record for the last 3 years shows no crashes and one conviction for a moving violation in a CMV, failure to obey a traffic sign.

Raymond C. Simpkins

Mr. Simpkins, 29, has had amblyopia in his right eye since birth. The visual acuity in his right eye is 20/400 and in the left, 20/20. Following an examination in 2006, his optometrist noted, “Mr. Simpkins has sufficient vision to perform the driving tasks required to operate a commercial vehicle.” Mr. Simpkins reported that he has driven straight trucks for 3 years, accumulating 16,944 miles, and tractor-trailer combinations for 3 years, accumulating 16,944 miles. He holds a Class A CDL from Virginia. His driving record for the last 3 years shows no crashes or convictions for moving violations in a CMV.

Dennis J. Smith

Mr. Smith, 31, has had amblyopia in his right eye since childhood. The visual acuity in his right eye is 20/400 and in the left, 20/20. Following an examination in 2006, his optometrist noted, “It is my professional opinion that Mr. Smith has sufficient vision to perform the driving tasks performed to operate a commercial vehicle.” Mr. Smith reported that he has driven straight trucks for 12 years, accumulating 156,600 miles, and tractor-trailer combinations for 12 years, accumulating 156,600 miles. He holds a Class A CDL from Colorado. His driving record for the last 3 years shows no crashes and one conviction for a moving violation in a CMV. He exceeded the speed limit by 9 mph.

W.C. Sparks

Mr. Sparks, 55, has a prosthetic left eye due to an injury sustained in 1974. The best corrected visual acuity in his right eye is 20/20. Following an examination in 2006, his optometrist noted, “W.C. Sparks has sufficient visual acuity and peripheral field to continue operating a commercial vehicle and performing driving tasks.” Mr. Sparks reported that he has driven straight trucks for 10 years, accumulating 50,000 miles, and tractor-trailer combinations for 22 years, accumulating 1.8 million miles. He holds a Class A CDL from Mississippi. His driving record for the last 3 years shows no crashes or convictions for moving violations in a CMV.

James A. Strickland

Mr. Strickland, 49, has a prosthetic left eye due to a malignant melanoma sustained in 1993. The visual acuity in his right eye is 20/15. Following an examination in 2006, his ophthalmologist noted, “In my medical opinion, James Strickland has sufficient vision to perform the driving tasks required to operate a commercial vehicle.” Mr. Strickland reported that he has driven straight trucks for 2 years, accumulating 30,000 miles, and tractor-trailer combinations for 15 years, accumulating 1.2 million miles. He holds a Class A CDL from North Carolina. His driving record for the last 3 years shows no crashes or convictions for moving violations in a CMV.

David C. Stitt

Mr. Stitt, 48, has complete loss of vision in his right eye due to a traumatic injury sustained in 1973. The visual acuity in his left eye is 20/20. Following an examination in 2006, his optometrist noted, “In my opinion, Mr. Stitt does have sufficient vision to perform the driving tasks required to operate a commercial vehicle.” Mr. Stitt reported that he has driven tractor-trailer combinations for 20 years, accumulating 2.2 million miles. He holds a Class A CDL from Kansas. His driving record for the last 3 years shows no crashes or convictions for moving violations in a CMV.

Jesse J. Sutton

Mr. Sutton, 53, has had a macular scar in his left eye since 1996. The best corrected visual acuity in his right eye is 20/20 and in the left, 20/100. Following an examination in 2006, his optometrist noted, “In my medical opinion, Mr. Sutton does have sufficient vision to perform the driving tasks needed to operate a commercial vehicle.” Mr. Sutton reported that he has driven straight trucks for 35 years, accumulating 875,000 miles, and tractor-trailer combinations for 10 years, accumulating 50,000 miles. He holds a Class A CDL from Indiana. His driving record for the last 3 years shows no crashes or convictions for moving violations in a CMV.

Gary L. Taylor

Mr. Taylor, 62, has complete loss of vision in his left eye due to an injury sustained in 1981. The visual acuity in his right eye is 20/20. Following an examination in 2006, his optometrist noted, “The patient has compensated very well, and has perfect vision, best corrected OD (Right eye). This should allow him to operate a commercial vehicle without any difficulty.” Mr. Taylor reported that he has driven straight trucks for 25 years, accumulating 500,000 miles. He holds a Class C operator's license from Iowa. His driving record for the last 3 years shows no crashes or convictions for moving violations in a CMV.

Kevin L. Truxell

Mr. Truxell, 44, has had amblyopia in his left eye since birth. The visual acuity in his right eye is 20/20 and in the left, 20/80. Following an examination in 2005, his optometrist noted, “Kevin possesses sufficient vision to perform the driving task required to operate a commercial vehicle.” Mr. Truxell reported that he has driven straight trucks for 18 years, accumulating 450,000 miles, and tractor-trailer combinations for 2 years, accumulating 100,000 miles. He holds a Class A CDL from Florida. His driving record for the last 3 years shows no crashes or convictions for moving violations in a CMV.

Brian S. Tuttle

Mr. Tuttle, 34, has had amblyopia in his right eye since birth. The visual acuity in his right eye is 20/200 and in the left, 20/20. Following an examination in 2006, his optometrist noted, “I find no contraindications which would prevent him from performing any driving task required to operate a commercial vehicle.” Mr. Tuttle reported that he has driven straight trucks for 6 years, accumulating 120,000 miles. He holds a Class B CDL from Kentucky. His driving record for the last 3 years shows no crashes or convictions for moving violations in a CMV.

Humberto A. Valles

Mr. Valles, 59, has had retinal neovascular maculopathy in his left eye since 1999. The best corrected visual acuity in his right eye is 20/20 and in the left, 20/80. Following an examination in 2005, his ophthalmologist noted, “In my medical opinion, Mr. Humberto Valles has sufficient vision to perform the driving tasks required to operate a commercial vehicle.” Mr. Valles reported that he has driven straight trucks for 36 years, accumulating 900,000 miles, and tractor-trailer combinations for 25 years, accumulating 12,500 miles. He holds a Class A CDL from Texas. His driving record for the last 3 years shows no crashes or convictions for moving violations in a CMV.

Earl M. Vaughan

Mr. Vaughan, 60, has had amblyopia in his right eye since childhood. The best corrected visual acuity in his right eye is 20/400 and in the left, 20/20. Following an examination in 2006, his optometrist noted, “It is my opinion that Mr. Vaughan has sufficient vision for operating a commercial vehicle.” Mr. Vaughan reported that he has driven straight trucks for 6 years, accumulating 48,000 miles. He holds a Class B CDL from Illinois. His driving record for the last 3 years shows no crashes or convictions for moving violations in a CMV.

Bruce A. Walker

Mr. Walker, 45, has had amblyopia in his left eye since childhood. The visual acuity in his right eye is 20/20 and in the left, 20/400. Following an examination in 2006, his optometrist noted, “It is my medical opinion that Bruce Walker has sufficient vision to perform the driving tasks required to operate a commercial vehicle.” Mr. Walker reported that he has driven straight trucks for 11 years, accumulating 245,740 miles, and tractor-trailer combinations for 3 years, accumulating 45,000 miles. He holds a Class A CDL from Wisconsin. His driving record for the last 3 years shows no crash and no convictions for moving violations in a CMV.

Harold R. Wallace

Mr. Wallace, 60, has a prosthetic right eye due to a traumatic injury sustained in 1951. The best corrected visual acuity in his left eye is 20/20. Following an examination in 2006, his optometrist noted, “Mr. Wallace has sufficient vision to perform the driving tasks required.” Mr. Wallace reported that he has driven tractor-trailer combinations for 10 years, accumulating 1.1 million miles. He holds a Class A CDL from Kentucky. His driving record for the last 3 years shows no crashes or convictions for moving violations in a CMV.

Lee A. Wiltjer

Mr. Wiltjer, 42, has had amblyopia in his left eye since birth. The visual acuity in his right eye is 20/20 and in the left, 20/400. Following an examination in 2006, his optometrist noted, “As an optometrist, it is my medical opinion that Mr. Lee Wiltjer does have sufficient vision to perform tasks required to safely operate a commercial vehicle.” Mr. Wiltjer reported that he has driven straight trucks for 26 years, accumulating 208,000 miles, and tractor-trailer combinations for 26 years, accumulating 182,000 miles. He holds a Class A CDL from Illinois. His driving record for the last 3 years shows no crashes or convictions for moving violations in a CMV.

John H. Wisner

Mr. Wisner, 54, has loss of vision in his left eye due to a retinal infection sustained in 1995. The best corrected visual acuity in his right eye is 20/15 and in the left, 20/60. Following an examination in 2006, his ophthalmologist noted, “Given his driving record during this time has been excellent, I have no objection to his continuing to drive a commercial vehicle.” Mr. Wisner reported that he has driven straight trucks for 4 years, accumulating 200,000 miles, and tractor-trailer combinations for 30 years, accumulating 2.1 million miles. He holds a Class A CDL from Ohio. His driving record for the last 3 years shows no crashes or convictions for moving violations in a CMV.

Harold E. White

Mr. White, 60, has complete loss of vision in his right eye due to a traumatic injury sustained in 1966. The visual acuity in his left eye is 20/20. Following an examination in 2006, his ophthalmologist noted, “I certify that Mr. White has sufficient vision to perform the driving tasks required to operate a vehicle, including a commercial vehicle.” Mr. White reported that he has driven straight trucks for 17 years, accumulating 255,000 miles, and tractor-trailer combinations for 21 years, accumulating 420,000 miles. He holds a Class A CDL from Missouri. His driving record for the last 3 years shows no crashes or convictions for moving violations in a CMV.

Theron L. Wood

Mr. Wood, 51, has complete loss of vision in his left eye due to congenital cataracts and a retinal detachment since 1991. The visual acuity in his right eye is 20/25. Following an examination in 2006, his ophthalmologist noted, “In my medical opinion, he has sufficient vision to perform the driving tasks required to operate a commercial vehicle.” Mr. Wood reported that he has driven tractor-trailer combinations for 4 years, accumulating 456,000 miles. He holds a Class A CDL from Arizona. His driving record for the last 3 years shows one crash and no convictions for moving violations in a CMV.

Request for Comments

In accordance with 49 U.S.C. 31136(e) and 31315, FMCSA requests public comment from all interested persons on the exemption petitions described in this Notice. The Agency will consider all comments received before the close of business November 29, 2006. Comments will be available for examination in the docket at the location listed under the ADDRESSES section of this Notice. The Agency will file comments received after the comment closing date in the public docket, and will consider them to the extent practicable. In addition to late comments, FMCSA will also continue to file, in the public docket, relevant information that becomes available after the comment closing date. Interested persons should monitor the public docket for new material.

Issued on: October 23, 2006.
Rose A. McMurray,
Associate Administrator, Policy and Program Development.

[FR Doc. E6-18087 Filed 10-27-06; 8:45 am]

BILLING CODE 4910-EX-P